DEPARTMENT OF HOMELAND SECURITY

Federal Emergency Management Agency

44 CFR Part 65

[Docket ID FEMA-2010-0003; Internal Agency Docket No. FEMA-B-1150]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Deputy Federal Insurance and Mitigation Administrator reconsider the changes. The modified BFEs may be changed during the 90-day period.

ADDRESSES: The modified BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required either to adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own or pursuant to policies established by other Federal, State, or regional entities. The changes in BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Alabama: Houston | City of Dothan (10-04-5284P) | July 9, 2010; July 16, 2010; Dothan Eagle | The Honorable Mike Schmitz, Mayor, City of Dothan, P.O. Box 2128, Dothan, AL 36302 | November 15, 2010 | 010104
Arizona:
Navajo | City of Show Low (09-09-2789P) | July 9, 2010; July 16, 2010; White Mountain Independent | The Honorable Rick Fernau, Mayor, City of Show Low, 550 North 9th Place, Show Low, AZ 85901 | June 28, 2010 | 040069
Arizona:
Yavapai | Unincorporated areas of Yavapai County (10-09-2672P) | July 9, 2010; July 16, 2010; The Daily Courier | Mr. Chip Davis, Chairman, Yavapai County Board of Supervisors, 1015 Fair Street, Prescott, AZ 86305 | November 15, 2010 | 040093
California:
Merced | City of Merced (10-09-0548P) | July 9, 2010; July 16, 2010; Merced Sun-Star | The Honorable Bill Spriggs, Mayor, City of Merced, 678 West 18th Street, Merced, CA 95340 | November 15, 2010 | 060191
Sacramento | City of Sacramento (10-09-0525P) | July 9, 2010; July 16, 2010; The Sacramento Bee | The Honorable Kevin Johnson, Mayor, City of Sacramento, 915 I Street, 5th Floor, Sacramento, CA 95814 | November 15, 2010 | 060266
San Bernardino | City of Colton (09-09-2788P) | July 9, 2010; July 16, 2010; San Bernardino Bulletin | The Honorable Kelly J. Chastain, Mayor, City of Colton, 650 North La Cadena Drive, Colton, CA 92324 | November 15, 2010 | 060273
San Bernardino | City of San Bernardino (09-09-2788P) | July 9, 2010; July 16, 2010; San Bernardino Bulletin | The Honorable Patrick J. Morris, Mayor, City of San Bernardino, 300 North D Street, San Bernardino, CA 92418 | November 15, 2010 | 060281
Santa Barbara | Unincorporated areas of Santa Barbara County (10-09-1185P) | July 9, 2010; July 16, 2010; Santa Barbara News-Press | The Honorable Janet Wolf, Chair, Santa Barbara County Board of Supervisors, 105 East Anapamu Street, Santa Barbara, CA 93101 | June 29, 2010 | 060331
Santa Clara | Unincorporated areas of Santa Clara County (09-09-2556P) | June 30, 2010; July 7, 2010; Santa Clara Weekly | The Honorable Ken Yeager, Chairperson, Santa Clara County Board of Supervisors, 70 West Hedding Street, 10th Floor, San Jose, CA 95110 | June 23, 2010 | 060337
Ventura | City of Simi Valley (10-09-2783P) | July 9, 2010; July 16, 2010; The Ventura County Star | The Honorable Paul Miller, Mayor, City of Simi Valley, 2929 Tapo Canyon Road, Simi Valley, CA 93063 | November 15, 2010 | 060421
Florida:
Miami-Dade | City of Sunny Isles Beach (10-04-4666P) | July 9, 2010; July 16, 2010; Miami Daily Business Review | The Honorable Norman S. Edlecup, Mayor, City of Sunny Isles Beach, 18070 Collins Avenue, Sunny Isles Beach, FL 33160 | June 30, 2010 | 120688
Orange | City of Orlando (10-04-0789P) | May 20, 2010; May 27, 2010; Orlando Weekly | The Honorable Buddy Dyer, Mayor, City or Orlando, P.O. Box 4990, Orlando, FL 32802 | September 24, 2010 | 120186
Polk | City of Winter Haven (10-04-1058P) | June 4, 2010; June 11, 2010; News Chief | The Honorable Jeff Potter, Mayor, City of Winter Haven, 451 3rd Street Northwest, Winter Haven, FL 33881 | October 12, 2010 | 120271
Sumter | Unincorporated areas of Sumter County (10-04-1900P) | July 22, 2010; July 29, 2010; Sumter County Times | Mr. Doug Gilpin, Chairman, Sumter County Board of Commissioners, 910 North Main Street, Bushnell, FL 33513 | November 26, 2010 | 120296
Nevada: Clark | City of Las Vegas (10-09-1223P) | July 1, 2010; July 8, 2010; Las Vegas Review-Journal | The Honorable Oscar B. Goodman, Mayor, City of Las Vegas, City Hall, 10th Floor, 400 Stewart Avenue, Las Vegas, NV 89101 | June 22, 2010 | 325276
New York: Niagara | Town of Cambria (07-02-0919P) | October 18, 2007; October 25, 2007; The Niagara Gazette | The Honorable Wright H. Ellis, Cambria Town Board Supervisor, 4160 Upper Mountain Road, Sanborn, NY 14132 | January 24, 2008 | 360499
North Carolina:
Catawba | City of Conover (10-04-2641P) | July 7, 2010; July 14, 2010; The Observer News-Enterprise | The Honorable Lee E. Moritz, Jr., Mayor, City of Conover, P.O. Box 549, Conover, NC 28613 | July 30, 2010 | 370053
Catawba | City of Newton (10-04-2641P) | July 7, 2010; July 14, 2010; The Observer News-Enterprise | The Honorable Robert A. Mullinax, Mayor, City of Newton, 401 North Main Avenue, Newton, NC 28658 | July 30, 2010 | 370057
Tennessee:
Knox | Unincorporated areas of Knox County (10-04-1555P) | July 9, 2010; July 16, 2010; Knoxville News-Sentinel | The Honorable Mike Ragsdale, Knox County Mayor, 400 Main Street, Suite 615, Knoxville, TN 37902 | June 30, 2010 | 475433
Shelby | Town of Collierville (10-04-1188P) | June 24, 2010; July 1, 2010; The Collierville Herald | The Honorable Stan Joyner, Mayor, Town of Collierville, 500 Poplar View Parkway, Collierville, TN 38017 | June 17, 2010 | 470263
Utah: Washington | City of Washington (10-08-0519P) | July 9, 2010; July 16, 2010; The Spectrum | The Honorable Kenneth Neilson, Mayor, City of Washington, 111 North 100 East, Washington, UT 84780 | November 15, 2010 | 490182
Wisconsin: Dane | City of Madison (10-05-3876P) | July 9, 2010; July 16, 2010; Wisconsin State Journal | The Honorable Dave Cieslewicz, Mayor, City of Madison, 210 Martin Luther King, Jr. Boulevard, City-County Building, Room 403, Madison, WI 53703 | July 30, 2010 | 550083

(Catalog of Federal Domestic Assistance No. 97.022, “Flood Insurance.”)

Dated: December 3, 2010.
Sandra K. Knight,
Deputy Federal Insurance and Mitigation Administrator, Mitigation, Department of Homeland Security, Federal Emergency Management Agency.

[FR Doc. 2010-32903 Filed 12-29-10; 8:45 am]

BILLING CODE 9110-12-P